DEPARTMENT OF COMMERCE

International Trade Administration

Initiation of Antidumping and Countervailing Duty Administrative Reviews and Request for Revocation in Part

AGENCY: Import Administration, International Trade Administration, Department of Commerce.

ACTION: Notice of Initiation of Antidumping and Countervailing Duty Administrative Reviews and Request for Revocation in Part

SUMMARY: The Department of Commerce has received requests to conduct administrative reviews of various antidumping and countervailing duty orders and findings with April anniversary dates. In accordance with the Department's regulations, we are initiating those administrative reviews. The Department of Commerce also received a request to revoke one antidumping duty order in part.

DATES: May 31, 2006.

FOR FURTHER INFORMATION CONTACT: Sheila E. Forbes, Office of AD/CVD Operations, Office 4, Import Administration, International Trade Administration, U.S. Department of Commerce, 14th Street and Constitution Avenue, NW., Washington, DC 20230, telephone: (202) 482-4697.

SUPPLEMENTARY INFORMATION:

Background

The Department has received timely requests, in accordance with 19 CFR 351.213(b)(2002), for administrative reviews of various antidumping and countervailing duty orders and findings with April anniversary dates. The Department also received timely requests to revoke in part the antidumping duty order on Certain Steel Concrete Reinforcing Bars from Turkey with respect to two exporters.

INITIATION OF REVIEWS:

In accordance with section 19 CFR 351.221(c)(1)(i), we are initiating administrative reviews of the following antidumping and countervailing duty orders and findings. We intend to issue the final results of these reviews not later than April 30, 2007.

Antidumping Duty Proceedings | Period to be Reviewed
RUSSIA: Magnesium Metal
A-821-819 | 10/4/04 - 3/31/06
PSC VSMPO-AVISMA Corporation
Solikamsk Magnesium Works
THE PEOPLE'S REPUBLIC OF CHINA: Brake Rotors¹
A-570-846 | 4/1/05 - 3/31/06
National Automotive Industry Import & Export Corporation or China National Automotive Industry Import & Export Corporation, and manufactured by any company other than Shandong Laizhou CAPCO Industry (“Laizhou CAPCO”)
Laizhou CAPCO, and manufactured by any company other than Laizhou CAPCO
Laizhou Luyuan Automobile Fittings Co., and manufactured by any company other than Laizhou Luyuan Automobile Fittings Co., or Shenyang Honbase Machinery Co., Ltd.
Shenyang Honbase Machinery Co., Ltd., and manufactured by any company other than Laizhou Luyuan Automobile Fittings Co., or Shenayang Honbase Machinery Co., Ltda.,
China National Industrial Machinery Import & Export Company
Laizhou Auto Brake Equipment Factory
Laizhou Auto Brake Equipment Company
Qingdao Gren Co.
Yantai Winhere Auto-Part Manufacturing Co., Ltd.
Longkou Haimeng Machinery Co., Ltd.
Zibo Luzhou Automobile Parts Co., Ltd.
Laizhou Hongda Auto Replacement Parts Co., Ltd.
Hongfa Machinery (Dalian) Co., Ltd.
Qingdao Meita Automotive Industry Co., Ltd.
Shangdong Huanri Group Co., Ltd.
Shangdong Huanri Group General Company
Longkou TLC Machinery Co., Ltd.
Zibo Golden Harvest Machinery Limited Company
Shanxi Zhongding Auto Parts Co., Ltd.
Xianghe Xumingyuan Auto Parts Co., Ltd.
Xiangfen Hengtai Brake System Co., Ltd.
Laizhou City Luqi Machinery Co., Ltd.
Qingdao Rotec Auto Parts Co., Ltd.
Shenyang Yinghao Machinery Co.
Longkou Jinzheng Machinery Co.
Laizhou Wally Automobile Co., Ltd.
Laizhou Huanri Automobile Parts Co., Ltd.
THE PEOPLE'S REPUBLIC OF CHINA: Non-Malleable Cast Iron Pipe Fittings²
A-570-875 | 4/1/05 - 3/31/06
Buxin Myland (Foundry) Ltd.
Jinan Meide Corporation
Myland Industrial Co., Ltd.
SFTEC
TURKEY: Certain Steel Concrete Reinforcing Bars
A-489-807 | 4/1/05 - 3/31/06
Colakoglu Metalurji A.S. and Colokaglu Dis Ticaret A.S.
Diler Demir Celik Endustri ve Ticaret A.S., Yazici Demir Celik
Sanayi ve Turizm Ticaret A.S. and Diler Dis Ticaret A.S.
Ekinciler Demir ve Celik Sanayi A.S. and Ekinciler Dis Ticaret A.S.
HABAS Sinai ve Tibbi Gazlar Istihsal Endustrisi A.S.
Kaptan Demir Celik Endustrisi ve Ticaret A.S.and Kaptan Metal Dis Ticaret
ve Nakliyat A.S.
Countervailing Duty Proceeding
None.
Suspension Agreements
None.
¹ If one of the named companies does not qualify for a separate rate, all other exporters of brake rotors from the People's Republic of China who have not qualified for a separate rate are deemed to be covered by this review as part of the single PRC entity of which the named exporters are a part.
² If one of the named companies does not qualify for a separate rate, all other exporters of non-malleable cast iron pipe fittings from the People's Republic of China who have not qualified for a separate rate are deemed to be covered by this review as part of the single PRC entity of which the named exporters are a part.

During any administrative review covering all or part of a period falling between the first and second or third and fourth anniversary of the publication of an antidumping duty order under section 351.211 or a determination under section 351.218(f)(4) to continue an order or suspended investigation (after sunset review), the Secretary, if requested by a domestic interested party within 30 days of the date of publication of the notice of initiation of the review, will determine, consistent with FAG Italia v.United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 U.S.C. 1675(a)), and 19 CFR 351.221(c)(1)(i).

Dated: May 24, 2006.
Thomas F. Futtner,
Acting Office Director, AD/CVD Operations, Office 4, Import Administration.

[FR Doc. E6-8388 Filed 5-30-06; 8:45 am]

BILLING CODE 3510-DS-S